FEDERAL ELECTION COMMISSION

Sunshine Act Meeting

AGENCY: Federal Election Commission.

DATE & TIME: Tuesday, August 7, 2001 at 10:00 a.m.

PLACE: 999 E Street, NW., Washington, DC.

Status: This meeting will be closed to the public.

Items to be discussed:

Compliance matters pursuant to 2 U.S.C. § 437g.

Audits conducted pursuant to 2 U.S.C. § 437g, § 438(b), and Title 26, U.S.C.

Matters concerning participation in civil actions or proceedings or arbitration.

Internal personnel rules and procedures or matters affecting the particular employee.

Previously announced Date & Time: Thursday, August 9, 2001. Meeting Open to the Public.

This meeting has been cancelled.

PERSON TO CONTACT FOR INFORMATION: Mr. Ron Harris, Press Officer, Telephone: (202) 694-1220.

Mary W. Dove,
Secretary of the Commission.

[FR Doc. 01-19508 Filed 7-31-01; 2:55 pm]

BILLING CODE 6715-01-M